DEPARTMENT OF ENERGY

Federal Energy Regulatory Commission

Combined Notice of Filings #1

Take notice that the Commission received the following electric corporate filings:

Docket Numbers: EC19-99-000.

Applicants: Empire Generating Co, LLC.

Description: Response to June 21, 2019 Deficiency Letter of Empire Generating Co, LLC.

Filed Date: 7/17/19.

Accession Number: 20190717-5136.

Comments Due: 5 p.m. ET 9/3/19.

Take notice that the Commission received the following electric rate filings:

Docket Numbers: ER13-823-006; ER13-33-005; ER10-2481-004; ER13-2106-008.

Applicants: Castleton Commodities Merchant Trading L.P., Collegiate Clean Energy, LLC, Ingenco Wholesale Power, L.L.C., NedPower Mount Storm, LLC.

Description: Notice of Non-Material Change in Status of Castleton Commodities Merchant Trading, L.P., et al.

Filed Date: 7/17/19.

Accession Number: 20190717-5134.

Comments Due: 5 p.m. ET 8/7/19.

Docket Numbers: ER13-1966-004.

Applicants: GenOn Wholesale Generation, LP.

Description: Report Filing: GenOn Wholesale Generation, LP Refund Report ? Informational Filing to be effective N/A.

Filed Date: 7/18/19.

Accession Number: 20190718-5048.

Comments Due: 5 p.m. ET 8/8/19.

Docket Numbers: ER19-2412-000.

Applicants: Michigan Electric Transmission Company, LLC.

Description: § 205(d) Rate Filing: Filing of Amended Service Agreement to be effective 9/16/2019.

Filed Date: 7/17/19.

Accession Number: 20190717-5108.

Comments Due: 5 p.m. ET 8/7/19.

Docket Numbers: ER19-2413-000.

Applicants: Southwest Power Pool, Inc.

Description: § 205(d) Rate Filing: 2424R1 OG&E and Westar Energy Interconnection Agreement to be effective 9/16/2019.

Filed Date: 7/18/19.

Accession Number: 20190718-5000.

Comments Due: 5 p.m. ET 8/8/19.

Docket Numbers: ER19-2414-000.

Applicants: Midcontinent Independent System Operator, Inc.

Description: § 205(d) Rate Filing: 2019-07-18_SA 3158 Termination of ATC-Plymouth Project Commitment Agmt to be effective 7/19/2019.

Filed Date: 7/18/19.

Accession Number: 20190718-5046.

Comments Due: 5 p.m. ET 8/8/19.

Docket Numbers: ER19-2415-000.

Applicants: Liberty Utilities (Granite State Electric) Corp.

Description: § 205(d) Rate Filing: Borderline Sales Rate Sheet Update July 2019 to be effective 7/1/2019.

Filed Date: 7/18/19.

Accession Number: 20190718-5052.

Comments Due: 5 p.m. ET 8/8/19.

Docket Numbers: ER19-2416-000.

Applicants: Southwestern Public Service Company.

Description: Tariff Cancellation: Sharyland Utilities, L.P.—FERC Electric Rate 3rd Revised No. 118—NOC to be effective 4/16/2016.

Filed Date: 7/18/19.

Accession Number: 20190718-5059.

Comments Due: 5 p.m. ET 8/8/19.

Docket Numbers: ER19-2417-000.

Applicants: PJM Interconnection, L.L.C.

Description: § 205(d) Rate Filing: Revisions to the OATT re: Must-Offer Exception Process to be effective 9/23/2019.

Filed Date: 7/18/19.

Accession Number: 20190718-5090.

Comments Due: 5 p.m. ET 8/8/19.

Docket Numbers: ER19-2418-000.

Applicants: PacifiCorp.

Description: Tariff Cancellation: Termination of UAMPS Constrct Agmt-St. George Circuit Energization to be effective 8/27/2019.

Filed Date: 7/18/19.

Accession Number: 20190718-5091.

Comments Due: 5 p.m. ET 8/8/19.

Docket Numbers: ER19-2419-000.

Applicants: ISO New England Inc., New England Power Company.

Description: § 205(d) Rate Filing: ISO-NE & NEP—1st Revised LGIA-ISONE/NEP-17-01 under Schedule 22 of the OATT to be effective 6/18/2019.

Filed Date: 7/18/19.

Accession Number: 20190718-5092.

Comments Due: 5 p.m. ET 8/8/19.

Docket Numbers: ER19-2420-000.

Applicants: PacifiCorp.

Description: Tariff Cancellation: Termination of PacifiCorp Energy Construction Agmt—SVEC Paisley Gen to be effective 9/17/2019.

Filed Date: 7/18/19.

Accession Number: 20190718-5105.

Comments Due: 5 p.m. ET 8/8/19.

Docket Numbers: ER19-2421-000.

Applicants: ISO New England Inc., New England Power Pool Participants Committee.

Description: § 205(d) Rate Filing: ISO-NE & NEPOOL; Filing re Nested Capacity Zone Changes to be effective 10/1/2019.

Filed Date: 7/18/19.

Accession Number: 20190718-5119.

Comments Due: 5 p.m. ET 8/8/19.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: July 18, 2019.
Nathaniel J. Davis, Sr.,
Deputy Secretary.

[FR Doc. 2019-15686 Filed 7-23-19; 8:45 am]

BILLING CODE 6717-01-P